DEPARTMENT OF ENERGY

[OE Docket No. EA-495]

Application To Export Electric Energy; Evolugen Trading and Marketing LP

AGENCY: Office of Electricity, Department of Energy.

ACTION: Notice of application.

SUMMARY: Evolugen Trading and Marketing LP (Applicant) has applied for authorization to transmit electric energy from the United States to Canada pursuant to the Federal Power Act.

DATES: Comments, protests, or motions to intervene must be submitted on or before March 25, 2022.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On January 18, 2022, Applicant filed an application with DOE (Application or App.) to “transmit electricity from the United States to Canada for a period of five years (or such longer period as may be permitted by the Department of Energy).” App. at 1. Applicant states that it is a “limited partnership organized under the laws of the Province of Ontario with its principal place of business in Gatineau, Quebec, Canada.” Id. at 2. Applicant adds that it “is wholly-owned (directly and indirectly) by Brookfield BRP Canada Corp.” Id. Applicant represents that it “does not own or control any electric generation, transmission, or distribution facilities in the United States,” nor does it “hold a franchise or service territory for the transmission, distribution or sale of electricity.” Id.

Applicant further claims that it would “purchase the electric power to be exported in the markets in which it participates, on a firm or interruptible basis, which may include purchases from wholesale generators, power marketers, other electric utilities, and federal power marketing agencies pursuant to voluntary agreements.” App. at 6. Applicant contends that its proposed exports would “not impair or tend to impede the sufficiency of electric power supplies in the United States or the regional coordination of electric utility planning or operations.” Id. at 6-7.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Evolugen Trading and Marketing LP's application to export electric energy to Canada should be clearly marked with OE Docket No. EA-495. Additional copies are to be provided directly to Simon Laroche, 41, rue Victoria, Gatineau, QC J8X 2A1, Canada, simon.laroche@evolugen.com; Vincenzo Franco, 1 Thomas Circle NW, Suite 700, Washington, DC 20005, vfranco@rockcreekenergygroup.com; and Whitney Gallagher, 1 Thomas Circle NW, Suite 700, Washington, DC 20005, wgallagher@rockcreekenergygroup,com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on February 16, 2022.
Christopher Lawrence,
Management and Program Analyst, Electricity Delivery Division, Office of Electricity.

[FR Doc. 2022-03751 Filed 2-22-22; 8:45 am]

BILLING CODE 6450-01-P